GENERAL SERVICES ADMINISTRATION

Office of Management Services; Transfer of Responsibility and Revision of an Optional Form by the U.S. Office of Personnel Management

AGENCY: General Services Administration.

ACTION: Notice.

SUMMARY: The U.S. Office of Personnel Management has transferred the ownership of the following Optional Form: OF 55, U.S. Government Identification.

The General Services Administration is responsible for government-wide regulations on security and building access; therefore, this form should be issued by them.

Also, the “If found * * *” address was updated on the reverse of the form.

This form is now authorized for local reproduction. Agencies may request a camera copy to use for printing from: Forms Management, (202) 501-0581, e-mail: barbm. williams@gsa.gov or the Internet: http://w3.gsa.gov/web/c/newform.nsf/MainMenu?OpenForm.

DATES: Effective June 10, 2002.

FOR FURTHER INFORMATION CONTACT: Ms. Barbara Williams, General Services Administration, (202) 501-0581.

Dated: May 27, 2002.
Barbara M. Williams,
Deputy Standard and Optional Forms Management Officer, General Services Administration.

[FR Doc. 02-14508 Filed 6-7-02; 8:45 am]

BILLING CODE 6820-BR-M